DEPARTMENT OF HOUSING AND URBAN DEVELOPMENT

[Docket No. FR-7050-N-58; OMB Control No.: 2528-0324]

30-Day Notice of Proposed Information Collection: HUD Standardized Grant Application Forms: Detailed Budget Form (HUD Form 424-CB) HUD Detailed Budget Worksheet (HUD Form 424-CBW), HUD Funding Matrix (HUD 424-M), Application for Federal Assistance (SF-424), Assurances and Certifications for Recipients and Applicants (HUD 424-B), Disclosure of Lobbying Activities (SF-LLL), Certification Regarding Lobbying Activities (Lobbying Form), HUD-2880 Applicant/Recipient Disclosure/Update Report, Project Abstract Form, and Budget Information for Non-Construction Programs (SF-424A)

AGENCY: Office of Policy Development and Research, Chief Data Officer, HUD.

ACTION: Notice.

SUMMARY: The proposed information collection requirement described below will be submitted to the Office of Management and Budget (OMB) for review, as required by the Paperwork Reduction Act. The Department is soliciting public comments on the subject proposal.

DATES: Comments Due Date: December 5, 2022.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov. Persons with hearing or speech impairments may access this number through TTY by calling the toll-free Federal Relay Service at (800) 877-8339.

FOR FURTHER INFORMATION CONTACT: Anna P. Guido, Reports Management Officer, REE, Department of Housing and Urban Development, 451 7th Street SW, Washington, DC 20410; email her at Anna.P.Guido@hud.gov or telephone 202-402-5535. This is not a toll-free number. Copies of available documents submitted to OMB may be obtained from Ms. Guido.

SUPPLEMENTARY INFORMATION: This notice informs the public that HUD has submitted to OMB a request for approval of the information collection described in Section A. The Federal Register notice that solicited public comment on the information collection for a period of 60 days was published on August 8, 2022, at 87 FR 48194.

A. Overview of Information Collection

Title of Information Collection: HUD Standardized Grant Application Forms.

OMB Approval Number: 2501-0017.

Type of Request: Revision of a currently approved collection.

Form Number: SF 424; SF LLL; Lobbying Form; SF 424-A; HUD 424-B; HUD 424-CB; HUD 424-CBW; HUD 424-M; HUD 2880.

Description of the need for the information and proposed use: Approval is sought for revision of the Information Collection Request of HUD standardized forms which are used by various HUD programs that use a competitive application process to award financial assistance. The HUD Common Budget Form—(HUD 424-CB), the Common Budget Form Worksheet (HUD 424-CBW), the Assurances and Certifications Form—(HUD 424-B), and the HUD Matrix (HUD-M) are used to offer standardized application forms. The Federal Financial Assistance Improvement Act of 1999 (Public Law 106-107, signed November 20, 1999) encourages standardization.

In addition, as noted under the Office of Management and Budget (OMB) Control Number heading, the collection references a number of government-wide forms, including forms from the Standard Form (SF) Family, which are used for all HUD applications and available on grants.gov. The burden associated with these government-wide forms are reflected in separate OMB-sponsored government-wide information collections and are not reflected in this collection. Additional OMB control numbers applicable to government wide Standardized Forms (SF) are also noted in this collection. As the burden is accounted for in those separate collections, it is not included in this calculation.

Further, HUD combined into this collection form HUD 2880 Applicant/Recipient Disclosure/Update Report (formerly approved under OMB control number 2501-0032) to consolidate public input and burden into one OMB control number. The form HUD 2880 is also updated to reflect changes to the information respondents report in the Employee ID field under Part III of the form. For each person reported in Part III, HUD expects applicants to provide a unique ID that is not the person's social security number. Lastly, the updated form HUD 2880 includes updates to the certification language, which now reads as follows:

I/We, the undersigned, certify under penalty of perjury that the information provided above is true, correct, and accurate. Warning: If you knowingly make a false statement on this form, you may be subject to criminal and/or civil penalties under 18 U.S.C. 1001. In addition, any person who knowingly and materially violates any required disclosures of information, including intentional non-disclosure, is subject to civil money penalty not to exceed $10,000 for each violation.

All HUD-specific forms in this information collection have been modified to include updated Paperwork Reduction Act burden statements, in order to comply with 5 CFR 1320.8(b)(3). The burden statements now reads as follows:

The public reporting burden for this collection of information is estimated to average [X] hours per response, including the time for reviewing instructions, searching existing data sources, gathering, and maintaining the data needed, and completing and reviewing the collection of the requested information. Comments regarding the accuracy of this burden estimate and any suggestions for reducing this burden can be sent to the Reports Management Officer, QDAM, Department of Housing and Urban Development, 451 7th St SW, Room 4176, Washington, DC 20410-5000. Do not send completed forms to this address. This agency may not conduct or sponsor, and a person is not required to respond to, a collection of information unless the collection displays a valid OMB control number. The information you provide will enable HUD to carry out its responsibilities under this Act and ensure greater accountability and integrity in the provision of certain types of assistance administered by HUD. This information is required to obtain the benefit sought in the HUD program. Failure to provide any required information may delay the processing of your application and may result in sanctions and penalties including of the administrative and civil money penalties specified under 24 CFR 4.38. This information will not be held confidential and may be made available to the public in accordance with the Freedom of Information Act (5 U.S.C. 552).

Information collection | Number of respondents | Frequency of response | Responses per annum | Burden hour per response | Annual burden hours | Hourly cost per response ¹ | Annual cost
SF 424 | 0 | 0 |  | 0 | 0 | 0 | 0
SF LLL | 0 | 0 |  | 0 | 0 | 0 | 0
Lobbying Form | 0 | 0 |  | 0 | 0 | 0 | 0
SF 424-A | 0 | 0 |  | 0 | 0 | 0 | 0
HUD 424-B | 14,375 | 1.2 | 17250 | 0.5 | $8,625.00 | $45.43 | 391,833.75
HUD 424-CB | 1,375 | 1.2 | 1650 | 3 | 4,950.00 | 45.43 | 224,878.50
HUD 424-CBW | 1,375 | 1.2 | 1650 | 3 | 4,950.00 | 45.43 | 224,878.50
HUD 424-M | 250 | 1.2 | 300 | 0.5 | 150.00 | 45.43 | 6,814.50
HUD 2880 | 14,375 | 1.2 | 17250 | 2 | 34,500.00 | 45.43 | 1,567,335.00
Total |  |  | 38,100 | 9 | 53,175.00 |  | 2,415,740.25

B. Solicitation of Public Comment

¹ Median hourly rate for “Project Management Specialists” (occupation code 13-1082), May 2021 National Occupational Employment and Wage Estimates United States, https://www.bls.gov/oes/current/oes_nat.htm#11-0000.

This notice is soliciting comments from members of the public and affected parties concerning the collection of information described in Section A on the following:

(1) Whether the proposed collection of information is necessary for the proper performance of the functions of the agency, including whether the information will have practical utility;

(2) If the information will be processed and used in a timely manner;

(3) The accuracy of the agency's estimate of the burden of the proposed collection of information;

(4) Ways to enhance the quality, utility, and clarity of the information to be collected; and

(5) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Anna P. Guido,
Department Reports Management Officer, Office of the Chief Data Officer.

[FR Doc. 2022-24088 Filed 11-3-22; 8:45 am]

BILLING CODE 4210-67-P